DEPARTMENT OF STATE

[Public Notice 6599]

Advisory Committee on Historical Diplomatic Documentation; Notice of Meeting

Summary: The Advisory Committee on Historical Diplomatic Documentation will meet in the Department of State, 2201 “C” Street NW., Washington, DC, June 23 and June 24, 2009, in Conference Room 1105. Prior notification and a valid government-issued photo ID (such as driver's license, passport, U.S. government or military ID) are required for entrance into the building. Members of the public planning to attend must notify Nathaniel Smith, Office of the Historian (202-663-3268) no later than June 18, 2009, to provide date of birth, valid government-issued photo identification number and type (such as driver's license number/state, passport number/country, or U.S. government ID number/agency or military ID number/branch), and relevant telephone numbers. If you cannot provide one of the specified forms of ID, please consult with Nathaniel Smith for acceptable alternative forms of picture identification. In addition, any requests for reasonable accommodation should be made prior to June 15, 2009. Requests for reasonable accommodation received after that time will be considered, but might be impossible to fulfill.

The Committee will meet in open session from 1:30 p.m. through 2:30 p.m. on Tuesday, June 23, 2009, in the Department of State, 2201 “C” Street NW., Washington, DC, in Conference Room 1105, to discuss declassification and transfer of Department of State records to the National Archives and Records Administration and the status of the Foreign Relations series. The remainder of the Committee's sessions from 2:45 p.m. until 5 p.m. on Tuesday, June 23, 2009, and 9 a.m. until 12 p.m. on Wednesday, June 24, 2009, will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure. Questions concerning the meeting should be directed to Ambassador John Campbell, Executive Secretary, Advisory Committee on Historical Diplomatic Documentation, Department of State, Office of the Historian, Washington, DC 20520, telephone (202) 663-1123, (e-mail history@state.gov).

Dated: May 19, 2009.
John Campbell,
Executive Secretary, Department of State.

[FR Doc. E9-12942 Filed 6-2-09; 8:45 am]

BILLING CODE 4710-11-P